ENVIRONMENTAL PROTECTION AGENCY

40 CFR Part 52

[R04-OAR-2004-NC-0005-200513; FRL-7917-8]

Approval and Promulgation of Air Quality Implementation Plans; North Carolina; Attainment Demonstration of the Mountain, Unifour, Triad and Fayetteville Early Action Compact Areas

AGENCY: Environmental Protection Agency (EPA).

ACTION: Proposed rule.

SUMMARY: The EPA is proposing to approve revisions to the State Implementation Plan (SIP) submitted by the State of North Carolina through the Department of Environment and Natural Resources (DENR) on December 21, 2004. These revisions are submitted pursuant to the Early Action Compact (EAC) protocol ¹ and will result in emission reductions needed to attain and maintain the 8-hour ozone National Ambient Air Quality Standard (NAAQS) in the Mountain, Unifour, Triad and Fayetteville EAC areas (the North Carolina EAC Areas). EPA is proposing approval of the photochemical modeling used by North Carolina to support the attainment demonstration of the 8-hour ozone standard within these areas. The proposed revisions further incorporate the local control measures of the Mountain, Unifour, Triad and Fayetteville EAC area agreements into the SIP.

¹ The EAC Protocol can be found at http://www.epa.gov/air/eac/ and in Regional Materials in Edocket (RME) ID No. R04-OAR-2004-NC-0005 (see the ADDRESSES section of this notice for further information on RME).

DATES: Written comments must be received on or before June 27, 2005.

ADDRESSES: Submit your comments, identified by Regional Material in EDocket (RME) ID No. R04-OAR-2004-NC-0005, by one of the following methods:

1. Federal eRulemaking Portal: http://www.regulations.gov. Follow the on-line instructions for submitting comments.

2. Agency Web site: http://docket.epa.gov/rmepub/. RME, EPA's electronic public docket and comment system, is EPA's preferred method for receiving comments. Once in the system, select “quick search,” then key in the appropriate RME Docket identification number. Follow the on-line instructions for submitting comments.

3. E-mail: spann.jane@epa.gov.

4. Fax: 404-562-9019.

5. Mail: “R04-OAR-2004-NC-0005”, Regulatory Development Section, Air Planning Branch, Air, Pesticides and Toxics Management Division, U.S. Environmental Protection Agency, Region 4, 61 Forsyth Street, SW., Atlanta, Georgia 30303-8960.

6. Hand Delivery or Courier: Deliver your comments to: Jane Spann, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to RME ID No. R04-OAR-2004-NC-0005. EPA's policy is that all comments received will be included in the public docket without change and may be made available online at http://docket.epa.gov/rmepub/, including any personal information provided, unless the comment includes information claimed to be Confidential Business Information (CBI) or other information the disclosure of which is restricted by statute. Do not submit information through RME, regulations.gov, or e-mail if you believe that it is CBI or otherwise protected from disclosure. The EPA RME Web site and the Federal regulations.gov are “anonymous access'' systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in the official file which is available at the Regulatory Development Section, Air Planning Branch, Air, Pesticides and Toxics Management Division, U.S. Environmental Protection Agency, Region 4, 61 Forsyth Street, SW., Atlanta, Georgia 30303-8960. EPA requests that if at all possible, you contact the contact listed in the FOR FURTHER INFORMATION CONTACT section to schedule your inspection. The Regional Office's official hours of business are Monday through Friday, 8:30 to 4:30, excluding federal holidays.

FOR FURTHER INFORMATION CONTACT: Jane Spann, Regulatory Development Section, Air Planning Branch, Air, Pesticides and Toxics Management Division, U.S. Environmental Protection Agency, Region 4, 61 Forsyth Street, SW., Atlanta, Georgia 30303-8960. The telephone number is (404) 562-9029. Ms. Spann can also be reached via electronic mail at spann.jane@epa.gov.

SUPPLEMENTARY INFORMATION: The use of “we,” “us,”or “our” in this document refers to EPA.

Table of Contents

I. What action are we proposing?

II. What is a SIP?

III. What is ozone and the purpose of the 8-hour ozone standard?

IV. What is an EAC?

V. What are the North Carolina EAC areas and their respective 8-hour ozone designations?

VI. How is attainment demonstrated for the 8-hour ozone standard with a photochemical model?

VII. What measures are included in this EAC SIP submittal?

VIII. What happens if the area does not meet the EAC commitments or milestones?

IX. Why are we proposing to approve this EAC SIP submittal?

X. Proposed Action

XI. Statutory and Executive Order Reviews

I. What Action Are We Proposing?

Today we are proposing to approve revisions to the North Carolina SIP under sections 110 and 116 of the Clean Air Act (“CAA” or “The Act”). These revisions demonstrate attainment and maintenance of the 8-hour ozone standard, 0.08 parts per million (ppm),² within the Mountain, Unifour, Triad and Fayetteville EAC areas (the North Carolina EAC Areas) by 2007, and incorporate the control measures developed by these EACs into the North Carolina SIP. The North Carolina EACs are agreements between the North Carolina DENR, local governments and EPA. The intent of these agreements is to reduce ozone pollution and thereby attain and maintain the 8-hour ozone standard by 2007, sooner than required by CAA for areas designated nonattainment. Section VII of this rulemaking describes the control measures that will be implemented within the North Carolina EAC areas.

² The 8-hour ozone standard was promulgated on July 18, 1997 (62 FR 38856).

II. What Is a SIP?

The “SIP” is the State Implementation Plan required by section 110 of the CAA and its implementing regulations. In essence, the SIP is a set of air pollution regulations, control strategies, and technical analyses developed by the State to ensure that the State meets the National Ambient Air Quality Standards (NAAQS). Once included in the SIP, these regulations, strategies, and analyses are federally enforceable by EPA. The NAAQS are established under section 109 of the Act and they currently address six criteria pollutants: carbon monoxide, nitrogen dioxide, ozone, lead, particulate matter, and sulfur dioxide. These SIPs can be extensive, containing state regulations or other enforceable documents and supporting information such as emission inventories, monitoring networks, and modeling demonstrations. As is discussed in greater detail below, SIP revisions relating to attainment of the 8-hour ozone standard, submitted by North Carolina on December 21, 2004 are now being proposed.

III. What Is Ozone and the Purpose of the 8-hour Ozone Standard?

Ozone is formed by a series of chemical reactions involving nitrogen oxides (NOX), the result of combustion processes, and reactive organic gases, also termed volatile organic compounds (VOCs). NOX and VOCs are emitted into the air through many sources such as vehicles, power plants and other industrial facilities. Ozone and its precursors have many adverse effects on human health and can cause the following: irritation of the respiratory system, reduction of lung function (making it more difficult to breathe), aggravation of asthma, inflammation and damage to the lining of the lungs, and an increase in the risk of hospital admissions and doctor visits for respiratory problems. In order to reduce ozone it is necessary to reduce NOX and VOCs, ozone precursors. Consistent with the Act, ozone reductions are achieved by establishing NAAQS, such as the 8-hour ozone standard, and implementing the measures necessary to reduce ozone and its precursors. In the April 30, 2004, (69 FR 23858), Federal Register document entitled “Air Quality Designations and Classifications for the 8-Hour Ozone National Ambient Air Quality Standards; Early Action Compact Areas with Deferred Effective Dates,” EPA designated every county in the United States unclassifiable/attainment or nonattainment. Generally, when areas are designated nonattainment, they must put measures in place that will control and maintain ozone concentrations at healthy levels; areas designated as attainment must also develop maintenance plans to ensure ozone concentrations do not increase over time to unhealthy levels. The EAC program involves a commitment by areas close to attainment of the ozone standard to achieve clean air sooner. The areas' commitment is demonstrated by implementing control measures to achieve attainment earlier than mandated by the 8-hour ozone NAAQS and the Clean Air Act. The EAC areas that were designated nonattainment, but were able to meet the requirements of the EAC Protocol currently have a deferral of their nonattainment designation until September 30, 2005.

IV. What Is an EAC?

An “EAC” is an “Early Action Compact.” This is an agreement between a State, local governments and EPA to implement measures not necessarily required by the Act in order to achieve cleaner air as soon as possible. Communities close to or exceeding the 8-hour ozone standard that have elected to enter into an EAC have started reducing air pollution at least two years sooner than required by the Act. In many cases, these reductions will be achieved by local air pollution control measures not otherwise mandated under the Act. The program was designed for areas that approach or monitor exceedances of the 8-hour ozone standard, but are in attainment for the 1-hour ozone standard. The 1-hour ozone standard will be revoked as of June 15, 2005 in most areas. It will not be revoked for previous 1-hour nonattainment areas that are 8-hour EAC areas, such as the Nashville, TN and Greensboro-Winston Salem-High Point, NC 1-hour area (the Triad 8-hour EAC area).³ These areas will continue to implement transportation conformity requirements related to the 1-hour ozone standard. The 1-hour ozone transportation conformity requirements will no longer be in effect one year after the 8-hour ozone attainment designation if the areas are successful in achieving attainment through implementation of the EAC. If any EAC area is unsuccessful in attaining the 8-hour ozone NAAQS through the EAC process, it will be subject to the 8-hour ozone transportation conformity requirements one year after the nonattainment designation becomes effective.

³ Notably, the counties included in the 8-hour EAC area may not directly correspond with all the counties included in the previous 1-hour area for the similar geographic area.

The initial choice to enter into an EAC was voluntary on behalf of the local officials and State air quality officials. EPA believes that early planning and implementation of control measures that improve air quality will likely accelerate protection of public health. The EAC program allows participating State and local entities to make decisions that will accelerate meeting the new 8-hour ozone standard using local pollution control measures in addition to federally mandated measures. While the choice of entering into an EAC was voluntary, all measures adopted as part of the EAC are being proposed for incorporation into the SIP and will be mandatory and federally enforceable.

In Region 4, EPA initially received 22 requests to enter into EACs in December 2002, including 100 counties in four states. Currently, there are 17 areas and 85 counties included in the EAC program in four Region 4 states. Of those 17, only eight areas received a deferral of their nonattainment designation. Five of the eight areas that have a deferred nonattainment designation are now attaining the 8-hour ozone standard and modeling attainment of that standard into the future. Consistent with EPA's EAC Protocol, states with communities participating in the EAC program had to submit plans for meeting the 8-hour ozone standard by December 31, 2004, rather than June 15, 2007, the Act's deadline for all other areas not meeting the standard. The EAC protocol further requires communities to develop and implement air pollution control strategies, account for emissions growth and demonstrate attainment by 2007 and maintain the 8-hour ozone standard until at least 2012. Greater details of the EAC program are explained in EPA's December 16, 2003 (68 FR 70108) proposed Federal Register document entitled “Deferral of Effective Date of Nonattainment Designations for 8-hour Ozone National Ambient Air Quality Standards for Early Action Compact Areas.”

North Carolina submitted an EAC for the Unifour area on December 19, 2002, the Fayetteville area on December 20, 2002, and the Triad and Mountain areas on December 23, 2002. These were signed by representatives of the local communities, State air quality officials and the Regional Administrator. The EPA deferred the effective date of nonattainment designations for EAC areas that were violating the 8-hour ozone standard, but continue to meet the compact milestones. Details of this deferral were published in the April 30, 2004, (69 FR 23858), Federal Register notice. The North Carolina EAC area designations are discussed further in Section V of today's rulemaking. To date, the North Carolina EAC areas have met all EAC milestones and, as long as EAC areas continue to meet the agreed upon milestones, the nonattainment designation will be deferred until April 15, 2008. At that time EAC areas with air quality monitoring data showing attainment for the years 2005-2007 that have also met all the compact milestones will be designated as attainment for the 8-hour ozone standard.

V. What Are the North Carolina EAC Areas and Their Respective 8-Hour Ozone Designations?

In April 2004 (69 FR 23858), EPA designated areas as nonattainment for the 8-hour NAAQS based upon air quality monitoring data during the 2001 through 2003 ozone seasons. EPA designated counties in the Mountain EAC area as unclassifiable/attainment, counties in the Unifour EAC area and Cumberland County in the Fayetteville EAC area as nonattainment-deferred, three counties in the Triad EAC area unclassifiable/attainment and the remaining eight counties in the Triad EAC area nonattainment-deferred for the 8-hour ozone standard (See Table 1). Although the counties in the Mountain EAC area were designated unclassifiable/attainment for the 8-hour ozone standard, three counties opted to continue with the EAC process.

Table 1.—North Carolina EAC Areas and Their 8-Hour Ozone Designations
EAC areas | EAC 8-hour ozone designation
Mountain Area of Western North Carolina EAC Area (Mountain EAC Area):⁴
Buncombe County | Unclassifiable/Attainment.
Haywood County (partial) | Unclassifiable/Attainment.
Madison County | Unclassifiable/Attainment.
Unifour EAC Area:
Alexander County | Nonattainment-deferred.
Burke County (partial) | Nonattainment-deferred.
Caldwell County (partial) | Nonattainment-deferred.
Catawba County | Nonattainment-deferred.
Triad EAC Area:
Alamance County | Nonattainment-deferred.
Caswell County | Nonattainment-deferred.
Davidson County | Nonattainment-deferred.
Davie County | Nonattainment-deferred.
Forsyth County | Nonattainment-deferred.
Guilford County | Nonattainment-deferred.
Randolph County | Nonattainment-deferred.
Rockingham County | Nonattainment-deferred.
Stokes County | Unclassifiable/Attainment.
Surry County | Unclassifiable/Attainment.
Yadkin County | Unclassifiable/Attainment.
Fayetteville EAC Area:
Cumberland County | Nonattainment-deferred.

To date, the North Carolina EAC areas have met all EAC milestones and, as long as EAC areas continue to meet the agreed upon milestones, the impact of the designations will be deferred until April 15, 2008. At that time, EPA will evaluate the 8-hour ozone designations for these areas.

⁴ Henderson and Transylvania Counties opted out of the Mountain EAC area and are no longer participating.

VI. How Is Attainment Demonstrated for the 8-Hour Ozone Standard With a Photochemical Model?

An area will typically evaluate necessary control measures using modeling programs to determine how that area can meet and maintain the NAAQS. This process is no different for EAC areas which used modeling and screening tests to evaluate attainment and maintenance of the 8-hour ozone standard. The attainment test uses ambient air quality monitored design values with model-generated ozone concentration data. The test is applied at each monitor in the area as well as applicable unmonitored modeling sites in the EAC area. A future year design value is developed by multiplying the ratio of the future year to current year model-predicted 8-hour daily maximum ozone concentrations by a current design value. The current ambient air quality design value is developed from air quality monitored data. Under EPA regulations at 40 CFR Part 50, the 8-hour ozone standard is attained when the 3-year average of the annual fourth-highest daily maximum 8-hour average ambient ozone concentrations is less than or equal to 0.08 ppm. (See 69 FR 23857, April 30, 2004, for further information). If modeled predicted future site-specific design values are less than 0.085 ppm at each monitor site, the test is passed.⁵

⁵ Although the ozone standard is 0.08 ppm, monitored values less than 0.085 are rounded down to 0.08 whereas monitored values equal to or greater than 0.085 are rounded up, and considered to be an exceedance of the standard. The 8-hour ozone standard can also be expressed in parts per billion and EPA often refers to monitors meeting the standard if they monitor values less than 85 ppb.

A. How Was Attainment Demonstrated Through the North Carolina EAC Modeling?

The North Carolina modeling was developed consistent with the EPA draft modeling guidance and EAC protocol guidance that was available when the modeling was conducted.⁶ The air quality modeled concentrations were developed using the Multiscale Air Quality Simulation Platform (MAQSIP) multi-scale photochemical air quality model. Representative episodes from several years were used in the base year modeling to validate the model for use in developing a control strategy for attainment of the 8-hour ozone NAAQS. The episodes were chosen to be reflective of the most frequent meteorological conditions that are conducive to 8-hour ozone exceedances. Three types of modeling inventories are needed for the attainment demonstration modeling: The base, current and future year inventories. The base year inventory represents the year of the episode being modeled and is used for evaluating the performance of the photochemical air quality model. The base years and episodes used in this SIP demonstration are July 13-15, 1995, June 21-24, 1996, June 27-29, 1996 and July 11-15, 1997. The second inventory is the “current” year inventory. For the North Carolina EAC modeling demonstration, the current year is 2000 (this is the most recent year that North Carolina DENR could develop in time for the SIP demonstration). Ideally, the current year, which represents a recent inventory, would be 2002. The use of older emission inventories introduces more uncertainties as projections are made over longer time periods. Areas with 8-hour ozone SIPs due in 2007 are expected to use the 2002 inventory as mentioned in the policy memo (“2002 Base Year Emission Inventory SIP Planning: 8-hr Ozone, PM2.5, and Regional Haze Programs” by Lydia N. Wegman dated November 18, 2002). However, for EAC SIPs submitted in 2004, EPA will accept another year provided the data represents recent conditions. The 2000 emission inventory was the most recent inventory that was available for North Carolina to use in their EAC SIP demonstration. The 2000 current year inventory is processed using all of the different meteorological episodes being studied. The photochemical modeling uses the current year inventory and those results are used as a representation of current air quality conditions. Several future year inventories were developed for the attainment year (2007) and maintenance years (2012 and 2017). It is the future year base inventories to which control strategies and sensitivities are applied to determine the controls necessary to attain the ozone standard. The attainment test is passed for all EAC area monitors for the future years of 2007, 2012 and 2017 for the North Carolina EAC areas using the higher of the most recent monitored design values from 1999-2001 and 2001-2003. The future-predicted design values from the North Carolina modeling are presented in Table 2. With the exception of the Cooleemee monitor (which does indicate attainment) in the Triad area, the future design values are well below 84 ppb for the North Carolina EAC monitors.

⁶ The EPA issued guidance on the air quality modeling that is used to demonstrate attainment with the 8-hour ozone NAAQS. See U.S. EPA, (1999), Draft Guideline on the Use of Models and Other Analysis in Attainment Demonstrations for the 8-Hour Ozone NAAQS, EPA-454/R-99-00413, (May 1999). A copy may be found on EPA's Web site at http://www.epa.gov/ttn/scram/ (file name: “DRAFT8HR”)

EPA, June, 2002. “Protocol for Early Action Compacts Designed to Achieve and Maintain the 8-Hour Ozone Standard”. Located at http://www.epa.gov/ttn/naaqs/ozone/eac/.

“Appendix W to 40 CFR Part 51: Guideline on Air Quality Models.” Located at http://www.epa.gov/scram001/ (file name: “Appendix W”).

Table 2.—North Carolina Future Design Values (ppb)
Area/monitor | 2007 | 2012 | 2017
Fayetteville EAC Area:
Wade | 78 | 73 | 69
Golfview | 77 | 72 | 68
Mountain EAC Area:
Fry Pan | 77 | 73 | 73
Purchase Knob | 75 | 70 | 67
Bent Creek | 74 | 69 | 68
Waynesville | 71 | 67 | 65
Triad EAC Area:
Cooleemee | 84 | 79 | 75
Hattie Avenue | 80 | 75 | 71
Union Cross | 79 | 73 | 70
Bethany | 76 | 71 | 70
Cherry Grove | 76 | 72 | 69
McLeansville | 76 | 71 | 68
Shiloh Church | 76 | 72 | 68
Sophia | 72 | 67 | 64
Plooirosa | 69 | 65 | 63
Unifour EAC Area:
Taylorsville | 75 | 69 | 67
Lenoir/Caldwell County | 73 | 68 | 66

B. Were Supplemental Analyses Used in the Technical Demonstration for Attainment in North Carolina?

According to the 1999 draft EPA 8-hour ozone modeling guidance (the guidance available when North Carolina began their modeling), a weight of evidence (WOE) determination is optional if attainment is modeled. If it is submitted, it provides additional corroborative analyses to support and strengthen the attainment modeling. A WOE determination uses different analyses than the photochemical model and is therefore useful in providing corroboration of the results of a photochemical model. These analyses are particularly useful if the attainment test results are within a few parts per million of the 8-hour ozone standard. The State of North Carolina chose to submit a WOE determination to support the attainment modeling results. The WOE determination results varied for each EAC area but are supportive of the modeling conclusions for attainment. The WOE determination is described in detail and for each EAC area in the Technical Support Document (TSD) ⁷ for this document. The WOE determination elements in the SIP submittal are summarized below.

⁷ The TSD can be found in RME ID No. R04-OAR-2004-NC-0005 (see the ADDRESSES section of this notice for further information on RME).

Three analysis items as defined in the draft EPA 8-hour ozone modeling guidance and two state-derived analyses were developed using the air quality modeling. A percent reduction is developed for the relative change between the current and future year for the five analysis items. The five air quality modeling analyses are:

1. Number (#) of grid cells with hourly 8-hour ozone concentration > 84 ppb

2. Number of maximum daily 8-hour ozone concentration > 84 ppb

3. Sum of grid-cells with predicted hourly 8-hour ozone concentration > 84 ppb

4. Sum of grid-cells with predicted maximum daily 8-hour ozone concentration > 84 ppb

5. Number of grid cells with predicted maximum 8-hour ozone concentrations sorted within EPA's Air Quality Index codes (e.g., green, yellow, orange and red categories)

An 80 percent change in the number of grid cells for a metric represents a sizeable improvement in 8-hour ozone concentrations. The WOE modeling-based results illustrate reductions in expected future year ozone. However, the majority of local EAC control measures were not included in the modeling. The expected emission reductions from the measures which were not modeled further support the conclusion that the EAC areas will attain and maintain the 8-hour ozone standard. EAC control measures are discussed in Section VII of this notice.

Table 3.—Average Percent (%) Reductions From Weight of Evidence Determination Results
Analysis item | Percent reduction for each EAC area: Triad | Percent reduction for each EAC area: Fayetteville | Percent reduction for each EAC area: Mountain | Percent reduction for each EAC area: Unifour
# grid cells with hourly 8-hour ozone concentration > 84 ppb | >95% (2007) 100% (2012 & 2017) | 100% (2007, 2012, 2017) | >95% (2007) 100% (2012 & 2017) | >85% (2007) >95% (2012 & 2017)
# maximum daily 8 hour ozone concentration > 84 ppb | >95% (2007) 100% (2012 & 2017) | 100% (2007, 2012, 2017) | >95% (2007) 100% (2012 & 2017) | >85% (2007) >95% (2012 & 2017)
sum of grid-cells with predicted hourly 8-hour ozone concentration > 84 ppb | >95% (2007) 100% (2012 & 2017) | 100% (2007, 2012, 2017) | >95% (2007) 100% (2012 & 2017) | >85% (2007) >95% (2012 & 2017)
sum of grid-cells with predicted maximum daily 8-hour ozone concentration > 84 ppb | >95% (2007) 100% (2012 & 2017) | 100% (2007, 2012, 2017) | >95% (2007) 100% (2012 & 2017) | >85% (2007) >95% (2012 & 2017)
number of grid cells for EPA's Air Quality Index orange and red codes combined | >95% (2007) 100% (2012 & 2017) | 100% (2007, 2012, 2017) | 100% (2007, 2012, 2017) | ~100% (2007, 2012, 2017)

The reductions presented in Table 3 well surpassed the EPA draft 8-hour ozone modeling guidance recommendation of achieving grid cell improvements.

C. What Is the Maintenance for Growth Plan for the EAC Areas?

In addition to control measures designed to attain and maintain the 8-hour ozone standard, North Carolina's EAC SIP also includes a comprehensive maintenance plan. In summary, North Carolina proposes to implement a maintenance plan similar to the requirements for section 175A of the Clean Air Act, which requires maintenance plans to be submitted for all areas redesignated from nonattainment to attainment. EPA's EAC Protocol required demonstration of maintenance of the 8-hour ozone standard through 2012; North Carolina's maintenance plan models attainment through 2017. The North Carolina maintenance plan also includes the following:

1. An attainment demonstration for the 2007-2017 period. Future design values developed through modeling for 2007, 2012 and 2017 that are below 85 ppb at all monitors in the EAC areas.

2. A commitment for a mid point evaluation in 2012.

3. A commitment to develop the maintenance plan for a second 10-year period for 2017-2027 and a schedule for developing that plan including emission inventories and air quality modeling. The schedule is as follows:

• December 2004—North Carolina submits EAC SIP, covering both attainment date of 2007 and first 10-year maintenance period through 2017

• April 2005—State of North Carolina and EAC areas implement EAC measures

• December 2005—First annual tracking report is submitted to EPA

• December 2006—Second annual tracking report is submitted to EPA

• December 2007—Attainment date

• December 2007—Third annual tracking report is submitted to EPA

• April 2008—EPA designates area attainment for the 8-hour ozone standard providing areas have 3 years of quality assured data showing attainment

• December 2008—The State completes evaluation of new emissions data and determines whether revised modeling analysis is required

• December 2008—Fourth annual tracking report is submitted to EPA and continues for each year thereafter through the end of the maintenance period

• January 2013—The State begins work on 10-year maintenance plan update

• December 2015—Submits 10-year maintenance plan update to EPA

• December 2027—20-year maintenance plan and annual tracking for growth concludes.

4. A commitment to update the EAC plan and submit to EPA in 2015.

5. A commitment to annually track stationary and highway mobile source emissions. Provides triggers (emissions growth thresholds and rates) and actions (air quality analyses, modeling and adopting additional controls) to be performed to address emission growth.

6. Based on the tracking of the growth of stationary and onroad mobile source emissions, North Carolina will commit to adopt and implement additional control measures, if needed, throughout the maintenance period.

7. A commitment to perform air quality analyses reviews and report each December.

8. Commitments for tracking and taking follow-up action are in force unless the 8-hour ozone standard is revoked in the future. North Carolina believes that would happen only in the event that EPA revises or revokes the current 8-hour ozone standard of 0.08 parts per million. To date, EPA has not proposed any revisions to the ozone NAAQS.

9. A commitment to evaluate, in 2008, whether or not a full modeling update is needed for all EAC areas.

10. Provide the following timeline of actions and submittals for the maintenance plan from December 2004 to December 2027.

D. What Are EPA's Conclusions on the North Carolina EAC Technical Demonstration for Attainment and Maintenance?

Attainment and maintenance of the 8-hour ozone NAAQS is demonstrated in the North Carolina EAC SIP submittal. EPA believes that the appropriate data and procedures are used to assess 8-hour ozone attainment for the NC EAC areas. EPA's analysis indicates that the combination of local scale modeling, WOE analyses and control strategies demonstrates attainment of the 8-hour ozone NAAQS for each North Carolina EAC area. Additional details of the North Carolina EAC modeling are presented in the TSD for the State submittal.

VII. What Measures Are Included in This EAC SIP Submittal?

The North Carolina submittal describes that several control measures are already in place or being implemented over the next few years that will contribute to attainment and maintenance of the 8-hour ozone standard. These measures include controls on both stationary and mobile emissions sources. The Federal and State control measures were modeled for the future years.

The Federal control measures that were modeled by North Carolina included the Tier 2 vehicle standards and low sulfur gasoline, which affects all passenger vehicles in a manufacturer's fleet; the heavy-duty gasoline and diesel highway vehicle standards, which are designed to reduce NOX and VOC emissions from heavy duty gasoline and diesel highway vehicles; large nonroad diesel engine standards, for equipment such as those used in construction, agricultural, and industrial equipment; and nonroad spark ignition engines and recreational engines standard, which will regulate NOX, HC and CO for groups of previously unregulated nonroad engines.

The State control measures that were modeled included the Clean Air Bill, in which the vehicle emissions inspection and maintenance program was expanded from 9 counties to 48, phased in between July 1, 2002 through January 1, 2006. Another State measure was the NOX SIP Call Rule, which will reduce summertime NOX emissions from power plants and other industries by 68 percent by 2006. These reductions began to be implemented in 2002. The Clean Smokestacks Act will reduce NOX emissions beyond the requirements of the NOX SIP Call Rule and will require coal-fired power plants to reduce annual NOX emissions by 78 percent by 2009 and be applied year round. This is one of the first state laws of its kind in the nation. An open burning ban is another state control measure that was modeled.

The only local control measure that was modeled was the fuel switching at one of the RJ Reynolds facilities in the Triad EAC area. The modeling results clearly show reductions in expected future year ozone levels. The majority of local EAC control measures were not included in the modeling. These expected emission reductions further support the conclusion that the North Carolina EAC areas will attain and maintain the 8-hour ozone standard in the future. Examples of these expected emission reductions not modeled are summarized in Table 4. For a complete list of local reductions see Appendix Q of the December 17, 2004, 8-hour ozone attainment demonstration for the North Carolina EAC areas submitted to EPA on December 21, 2004 found in the RME system as mentioned in the ADDRESSES section of today's rulemaking.

Table 4.—Additional EAC Local Reductions not Modeled
Strategy | Estimated reduction: NOX (tons/year) | Estimated reduction: VOC (tons/year)
Triad EAC:
Increase ridership on municipal and regional bus service | 3.5 | 5.0
Create new Park and Ride Lots | 3.2 | 1.8
Expand PART ride sharing & vanpooling | 0.7 | 0.7
Expand car pooling | 19.0 | 23.2
Diesel retrofits on school buses | 23.0 | 17.0
Truck Stop Electrification | 35.0 | 1.8
Duke Energy Anti-Idling Policy | 0.7 | —
Increase use of Biodiesel | 2% increase in Biodiesel use | 30% increase in Biodiesel use.
Fayetteville EAC:
Landfill harvesting methane and selling energy | 5.0 |
Retrofitting Diesel School buses |  | ~42% reduction.
Unifour EAC:
Expanded Public Transportation | 0.4 | 0.5
Compressed Work Weeks | 1.3 | 1.5
Regional Bicycle & Pedestrian Plan | 1.6 | 2.0
City and County Energy Plan | 0.4 | 0.5

The modeled control measures detailed in Section VII meet the requirements of the EAC protocol: they are specific, quantified, permanent and will be federally enforceable when approved by EPA. In compliance with the next EAC program milestone, each of the control measures listed above, including any measures substituted by local areas, are scheduled to be implemented on or before December 31, 2005. The TSD contains additional information on each of these control measures, as well as information on numerous local measures that are expected to have benefits, but for which specific emission reductions were not quantified.

Despite the growth estimated for the EAC areas, the more stringent federal emission standards are projected to substantially reduce emissions of NOX and VOCs in the newer fleet of vehicles. Improved emission controls in major industrial, commercial and institutional facilities (point sources) are also projected to significantly reduce emissions of NOX. Using air quality models to anticipate the impact of growth, as well as the state-assisted and locally-implemented measures to reduce emissions, the State has projected the EAC areas will be in attainment of the 8-hour ozone standard in 2007 and will remain in attainment through 2012 and 2017. The EPA has reviewed the modeling and emission projections and believes attainment is demonstrated. Therefore, EPA is proposing to approve the demonstration of attainment.

VIII. What Happens if the Area Does Not Meet the EAC Commitments or Milestones?

In the April 30, 2004, (69 FR 23858) Final Rulemaking, EPA designated counties in the Mountain EAC area as unclassifiable/attainment, and counties in the Unifour, Fayetteville and Triad EAC areas as nonattainment-deferred for the 8-hour ozone standard. The Triad EAC area includes counties that are designated unclassifiable/attainment and counties that are designated nonattainment-deferred in the 69 FR 23858. In accordance with the April 30, 2004, (69 FR 23858) Final Rulemaking the effective date of nonattainment for the EAC areas (see Table 4) has been deferred until September 30, 2005. The measures outlined in the North Carolina SIP submittal provide every indication that the North Carolina EAC areas will attain the 8-hour ozone standard by December 31, 2007 and complete each milestone and action agreed upon in the compact. However, if one milestone is missed, EPA will take action to propose and promulgate a finding of failure to meet the milestone, and to withdraw the deferred effective date of the nonattainment designation.

IX. Why Are We Proposing To Approve This EAC SIP Submittal?

We are proposing to approve this EAC SIP submittal because the SIP submittal demonstrates attainment by December 31, 2007 and maintenance of that standard through 2027. We have reviewed the submittal and determined that it is consistent with the requirements of the Act, EPA's policy, and the EAC protocol. The TSD contains detailed information concerning this rulemaking action.

Approving the EAC submittals into the SIP will also mean that measures and controls identified therein become federally enforceable and the North Carolina EAC areas' citizens will start to benefit from reductions in air pollution sooner than if the areas were designated nonattainment. See Section VII of this rulemaking action for the description of air pollution control measures. Finally, it means that EPA has determined that the EAC areas have continued to fulfill the milestones and obligations of the EAC Program. In a separate action, EPA will take action proposing to defer the effective date of nonattainment designation for these areas until December 31, 2006, so long as the areas continue to fulfill the EAC obligations, including semi-annual reporting requirements, implementation of the measures in the EAC submittal by December 31, 2005, and a progress assessment by June 30, 2006.

X. Proposed Action

EPA is proposing to approve the attainment demonstration and the Mountain area, Unifour area, Triad area and Fayetteville area EACs and incorporate these into the North Carolina SIP. The modeling of ozone and ozone precursor emissions from sources in the four North Carolina EAC areas demonstrate that the specified control strategies will provide for attainment of the 8-hour ozone NAAQS by December 31, 2007. These specified control strategies are consistent with the EAC program.

XI. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state actions, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects 40 CFR Part 52

Environmental protection, Air pollution control, Intergovernmental relations, Nitrogen dioxide, Ozone, Reporting and recordkeeping requirements, Volatile organic compounds.

Authority: 42 U.S.C. 7401 et seq.

Dated: May 18, 2005.
J. I. Palmer, Jr.,
Regional Administrator, Region 4.

[FR Doc. 05-10473 Filed 5-25-05; 8:45 am]

BILLING CODE 6560-50-P